DEPARTMENT OF HEALTH AND HUMAN SERVICES

Centers for Disease Control and Prevention

[60Day-25-0573; Docket No. CDC-2025-0519]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled National HIV Surveillance System (NHSS). The NHSS collects comprehensive population-based data on persons living with HIV in the U.S. and its territories, utilizing standard reporting from laboratories and healthcare providers to monitor trends, estimate incidence and prevalence, analyze drug resistance, detect and monitor clusters, and inform public health planning and resource allocation at federal, state and local levels and by HIV prevention and care partners.

DATES: CDC must receive written comments on or before December 1, 2025.

ADDRESSES: You may submit comments, identified by Docket No. CDC-2025-0519 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National HIV Surveillance System (NHSS) (OMB Control No. 0920-0573, Exp. 2/28/2026)—Extension—National Center for HIV, Viral Hepatitis, STD, and TB Prevention (NCHHSTP), Centers for Disease Control and Prevention (CDC).

Background and Brief Description

CDC is authorized under Sections 304 and 306 of the Public Health Service Act (42 U.S.C. 242b and 242k) to collect information on cases of human immunodeficiency virus (HIV) and indicators of HIV disease and HIV disease progression including AIDS. Data collected as part of the National HIV Surveillance System (NHSS) are the primary data used to monitor the extent and characteristics of the HIV burden in the United States. HIV surveillance data are used to describe trends in HIV incidence, prevalence and characteristics of persons diagnosed with HIV infection and used widely at the federal, state, and local levels for planning and evaluating prevention programs and health-care services, allocating funding for prevention and care, and monitoring progress toward achieving national prevention goals. NHSS data collection activities are currently supported through cooperative agreements with health departments under CDC Notice of Funding Opportunity PS24—0047: High-Impact HIV Prevention and Surveillance Programs for Health Departments CDC-RFA-PS-24-0047 and Accelerating the Prevention and Control of HIV, Viral Hepatitis, STDs, and TB in the U.S. Affiliated Pacific Islands CDC-RFA-PS23-2302. The activities funded under these announcements promote and support improving health outcomes for persons living with HIV through achieving and sustaining viral suppression, by using quality, timely, and complete surveillance, and program data to guide HIV prevention efforts toward reducing new HIV infections and ending the HIV epidemic in the United States.

The Division of HIV Prevention (DHP), National Center for HIV, Viral Hepatitis, STD, and TB Prevention (NCHHSTP), CDC in collaboration with health departments in the states, the District of Columbia, and U.S. territories and freely associated states, conducts national surveillance for cases of HIV infection that includes critical data reported across the spectrum of HIV disease stages from HIV diagnosis to death. The systematic data collection provides the essential data used to calculate population-based HIV case counts, HIV incidence estimates, describe the geographic distribution of disease, monitor HIV transmission and drug resistance patterns and genetic diversity of HIV among infected persons, detect and respond to HIV clusters of recent and rapid transmission, and monitor perinatal exposures. NHSS data are also used locally to identify persons with HIV who are not in medical care and linking them to care and needed services. NHSS data continue to be collected, maintained, and reported using standard case definitions, report forms and software. The system is periodically updated as needed to keep pace with changes in testing technology and advances in HIV care and treatment, as well as changing prevention program monitoring and evaluation needs.

CDC receives adult and pediatric HIV case reports from 59 areas. Additional information on perinatal exposures is also reported in a subset of jurisdictions when reportable using the same pediatric case report form used to monitor progress toward perinatal HIV elimination goals. Health department staff compile information from laboratories, physicians, hospitals, clinics, and other health care providers to complete the HIV adult and pediatric case reports. CDC estimates that approximately 789 adult HIV case reports and 57 perinatal exposure and pediatric case reports are processed by each health department annually.

These data are recorded using standard case report forms either on paper or electronically and entered into the electronic reporting system. Updates to case reports are also entered into the reporting system by health departments as additional information may be received from laboratories, vital statistics, or additional providers. Evaluations are also conducted by health departments on a subset of case reports (e.g. re-abstraction, validation). CDC estimates that on average approximately 85 evaluations of case reports, 2519 updates to case reports and 10130 updates of electronic laboratory test data will be processed by each of the 59 health departments annually. In addition, 59 health departments will conduct routine deduplication activities for new diagnoses and cumulative case reports. CDC estimates that health departments on average will follow up on 3032 reports as part of deduplication activities annually. Case report information compiled over time by health departments is then de-identified and forwarded to CDC monthly to become part of the national HIV surveillance database.

Additional information will be reported by health departments for monitoring and evaluation of health department investigations including activities identifying persons who are not in HIV medical care and linking them to HIV medical care (e.g., Data-to-Care activities) and other services and identifying and responding to clusters. CDC estimates health departments will on average process 929 responses related to investigation reporting and monitoring annually.

Clusters of HIV are groups of persons related by recent, rapid transmission, for which rapid response is needed to intervene and interrupt ongoing transmission and prevent future HIV infections. Health departments may detect clusters through multiple means, including through routine analyses of Surveillance data and other data reported to the NHSS. Summary data on clusters of recent and rapid HIV transmission in the United States are collected to monitor situations necessitating public health intervention, assess health department response, and evaluate outcomes of intervention activities. Health departments complete an Initial Cluster Report Form when a cluster is first identified, a Follow-up Cluster Report Form each quarter when response activities are ongoing, and an Annual/Closeout Cluster Report Form depending on the state of cluster response. CDC estimates on average health departments will provide information for 2.5 Initial Cluster Report Forms, 5 Follow-up Cluster Report Forms, and 2.5 Annual/Closeout Cluster Report Forms annually.

The Standards Evaluation Report (SER) is used by CDC and Health Departments to improve data quality, interpretation, usefulness, and surveillance system efficiency, as well as to monitor progress toward meeting surveillance program objectives. The information collected for the SER includes a brief set of questions about evaluation outcomes and the collection of laboratory data that will be reported one time a year by each of the 59 health departments.

There are no revisions to data collection or changes in burden requested in this Extension. The total estimated annualized burden is 60,731 hours.

Estimated Annualized Burden Hours
Type of respondent | Form name | Number of respondents | Number of responses per respondent | Average burden per response (in hours) | Total burden (in hours)
Health Departments | Adult HIV Case Report (ACRF) | 59 | 789 | 20/60 | 15,517
Health Departments | Perinatal Exposure and Pediatric HIV Case Report (PCRF) | 59 | 57 | 35/60 | 1,962
Health Departments | Case Report Evaluations | 59 | 85 | 20/60 | 1,672
Health Departments | Case Report Updates | 59 | 2519 | 2/60 | 4,954
Health Departments | Laboratory Updates | 59 | 10130 | 0.5/60 | 4,981
Health Departments | Deduplication Activities | 59 | 3032 | 10/60 | 29,815
Health Departments | Investigation Reporting and Evaluation | 59 | 929 | 1/60 | 914
Health Departments | Initial Cluster Report Form | 59 | 2.5 | 1 | 148
Health Departments | Follow-up Cluster Report Form | 59 | 5.0 | 0.5 | 148
Health Departments | Annual/Closeout Cluster Report Form | 59 | 2.5 | 1 | 148
Health Departments | Annual Reporting: Standards Evaluation Report (SER) | 59 | 1.0 | 8 | 472
Total |  |  |  |  | 60,731

Jeffrey M. Zirger,
Lead, Information Collection Review Office, Office of Public Health Ethics and Regulations, Office of Science, Centers for Disease Control and Prevention.

[FR Doc. 2025-18904 Filed 9-29-25; 8:45 am]

BILLING CODE 4163-18-P